DEPARTMENT OF JUSTICE

Notice of Lodging of Consent Decree Pursuant to the Comprehensive Environmental Response, Compensation, and Liability Act and the Resource Conservation and Recovery Act

Notice is hereby given that a proposed Consent Decree United States, et al. v. Montrose Chemical Corporation of California, et al., No. CV 90-3122-R (C.D. Cal), was lodged on December 21, 2001 with the United States District Court for the Central District of California.

The consent decree resolves claims under Section 107 of the Comprehensive Environmental Response, Compensation, and Liability Act of 1980, 42 U.S.C. 9607, as amended, brought against defendants Montrose Chemical Corporation of California (“Montrose”), Aventis CropScience USA, Inc., Chris-Craft Industries, Inc. (now News Publishing Australia Ltd., by merger), and Atkemix Thirty-Seven, Inc. (now Stauffer Management Company, LLC, by merger) (collectively, the “DDT Defendants”), for response costs incurred and to be incurred by the United States Environmental Protection Agency in connection with responding to the release and threatened release of hazardous substances at the “Current Storm Water Pathway.” The Current Storm Water Pathway consists of the following system of man-made storm water conveyances: the Kenwood Drain, the Torrance Lateral, the Dominguez Channel (from Laguna Dominguez, the most northern point of tidal influence in the Dominguez Channel, to the Consolidated Slip), and the portion of the Los Angeles Harbor known as the Consolidated Slip from the mouth of the Dominguez Channel south to but not extending beyond Pier 200B and 200Y.

The proposed consent decree requires the DDT Defendants to pay $1.4 million to the United States Environmental Protection Agency, $50,000 to the California Department of Toxic Substances Control, and $450,000 to the California Regional Water Quality Control Board, Los Angeles Region, which commits to spend this money on the Current Storm Water Pathway only. The consent decree includes a covenant not to sue by the United States under Sections 106 and 107 of the Comprehensive Environmental Response, Compensation, and Liability Act of 1980, 42 U.S.C. 9606 and 9607, and under Section 7003 of the Resource Conservation and Recovery Act, 42 U.S.C. 6973.

The Department of Justice will receive, for a period of thirty (30) days from the date of this publication, comments relating to the proposed Consent Decree. Comments should be addressed to the Assistant Attorney General for the Environment and Natural Resources Division, U.S. Department of Justice, P.O. Box 7611, Washington, DC 20044; and refer to United States, et al. v. Montrose Chemical Corporation of California, et al., No. CV 90-3122-R (C.D. Cal), and DOJ Ref. #90-11-3-511/3.

The proposed settlement agreement may be examined at the Office of the United States Attorney, Central District of California, Federal Building, 300 North Los Angeles Street, Los Angeles, CA 90012; and the Region IX Office of the Environmental Protection Agency, 75 Hawthorne Street, San Francisco, CA 94105. A copy of the proposed Consent Decree may be obtained by mail from the Department of Justice Consent Decree Library, P.O. Box 7611, Washington, DC 20044. In requesting a copy please refer to the referenced case and enclose a check in the amount of $9.25 (25 cents per page reproduction costs), payable to the Consent Decree Library.

Bruce Gelber,
Section Chief, Environmental Enforcement Section, Environment and Natural Resources Division.

[FR Doc. 01-32220 Filed 12-31-01; 8:45 am]

BILLING CODE 4410-15-M